DEPARTMENT OF HEALTH AND HUMAN SERVICES

Health Resources and Services Administration

Ryan White HIV/AIDS Program Part C HIV Early Intervention Services Program Existing Geographic Service Area

AGENCY: Health Resources and Services Administration, HHS.

ACTION: Notice of Class Deviation from Competition Requirements for Ryan White HIV/AIDS Program (RWHAP) Part C HIV Early Intervention Services Program Existing Geographic Service Area (EISEGA).

SUMMARY: The HIV/AIDS Bureau (HAB) is requesting a class deviation from the competition requirements in order to provide one-year extensions with funds to 346 Ryan White HIV/AIDS Program (RWHAP) Part C HIV Early Intervention Services Program Existing Geographic Service Area (EISEGA) recipients. The purpose of the Part C EISEGA program is to provide HIV primary care in the outpatient setting to targeted low income, underinsured people living with HIV. HAB is finalizing an evaluation of the Part C EISEGA program and development of a new data-driven methodology. This methodology is aimed at ensuring that awards are based on a consistent approach to promote a rational and sustainable allocation of resources while ensuring responsiveness to geographic and healthcare financing considerations, indicators of need, and results along the HIV care continuum. HAB expects to re-compete the entire program in fiscal year (FY) 2018. One-year extensions with funds for all 346 Part C EISEGA recipients enables HAB to finalize the evaluation and methodology development and engage recipients and relevant stakeholders with regard to this new approach prior to implementation and without disrupting the provision of critical HIV primary medical care services to the current RWHAP clients served by these recipients. Pending the availability of funds, the amount of each FY 2017 award will be based on a proportion of the FY 2016 Part C EISEGA award to each of the 346 recipients, respectively.

FOR FURTHER INFORMATION CONTACT: CAPT Mahyar Mofidi, DMD, Ph.D., Director, Division of Community HIV/AIDS Programs, HIV/AIDS Bureau, Health Resources and Services Administration, 5600 Fishers Lane, 09N09, Rockville, MD 20857, Phone: (301) 443-2075, Email: mmofidi@hrsa.gov.

SUPPLEMENTARY INFORMATION:

Period of Supplemental Funding: January 1, 2017-December 31, 2017

Intended Recipients of the Award (92): Health Services Center, Franklin Primary Health Center, Montgomery AIDS Outreach, Alaska Native Tribal Health Consortium, Maricopa County Special Health Care District, El Rio Santa Cruz Neighborhood Health Center, Watts Healthcare Corporation, AltaMed Health Services Corporation, Tri City Health Center, West County Health Centers, Los Angeles Gay and Lesbian Community Services Center, County of San Bernardino, Family Health Centers of San Diego, Northeast Valley Health Corporation, San Francisco Community Clinics Consortium, County of Santa Clara, North County Health, County of Orange, County of Santa Cruz, Community Medical Centers, Mendocino Community Health Clinic, Denver Hospital & Health Authority, Unity Health, Florida Department of Health Monroe County, University of Miami, Miami Beach Community Health Center, Emory University, St. Joseph Mercy Cares, Georgia Health Sciences University, Chatham County Board of Health, Ware County Board of Health, Hektoen Institute for Medical Research, Howard Brown Health Center, University of Illinois at Peoria, The Health & Hospital Corp of Marion County, University of Kansas, City of Portland, Chase Brexton Health Services, Fenway Community Health Center, Holyoke Health Center, Dimock Community Health Center, Regents of the University of Michigan, Wayne State University, Trinity Health Corporation, The Coastal Family Health Center, Kansas City Free Health Clinic, Washington University, AIDS Project of The Ozarks, University of Nebraska, Northern Nevada Hopes, Newark Community Health Centers, Inc., Rutgers, The State University Of New Jersey, St. Joseph's Hospital and Medical Center, St. Francis Medical Center, Bronx Lebanon Hospital, Albany Medical College, Research Foundation SUNY, Brooklyn Hospital Center, Lutheran Medical Center, NYCHHC/Cumberland Diagnostic, Erie County Medical Center, NARCO Freedom, Inc.,* North Shore University Hospital, New York University, Inc., Community Healthcare Network, Montefiore Medical Center, Care for the Homeless, East Harlem Council for Human Services, Open Door Family Medical Center, A C Center, Inc., Western North Carolina Community Health Center, Portsmouth Health Department, University of Oklahoma, Oklahoma State University, County of Multnomah, Esperanza Health Center, City of Philadelphia, Centro De Salud Familiar Dr. Julio Palmieri Ferri, Inc./San Juan Bautista Medical Center, Municipio de Bayamon, Med Centro/Consejo De Salud de Puerto Rico, Puerto Rico Community Network For Clinical Research on AIDS (CONCRA), Miriam Hospital, Shelby County Health Corporation/Regional One, Parkland Dallas County Hospital District, Centro De Salud Familiar La Fe, Tarrant County, Valley AIDS Counsel, Harris County Hospital District, City of Austin, University of Utah, Frederiksted Medical Center, and Harborview Medical Center.

* NARCO Freedom, Inc. is currently in the process of transferring the grant. Recipient name will be updated upon completion of the transfer.

Period of Supplemental Funding: April 1, 2017-March 31, 2018

Intended Recipients of the Award (114): AIDS Action Huntsville, Whatley Family Health Services, University of Arizona, ARcare, East Arkansas Family Health Center, Open Door Community Health Centers, County of Solano, Fresno Community Hospital and Medical Center, University of Southern California, County of Plumas, Center for AIDS Research, Education and Services, Monterey County/Natividad Medical Center, Tarzana Treatment Center, Inc., Ampla Health, County of Ventura,+ Boulder Community Hospital/Beacon Center for Infectious Disease, St. Mary's Hospital Medical Center, Inc., Pueblo Community Center, Community Health Center, Inc. +, Cornell Scott Hill Health Corporation, Community Health and Wellness of Greater Torrington, Waterbury Hospital, Generations Family Health Center, Howard University Hospital Comprehensive Clinic,+ Whitman Walker Clinic, Florida Health Department/Polk County Health Department, Okaloosa County, Florida Health Department/Duval County Health Department, Florida Health Department/Hendry County Health Department, Borinquen Health Care Center,+ Inc., Florida Dept. of Health—Orange County, Manatee County Rural Health Services, Inc., Specialty Care Clinic/Clarke County, North Georgia Health District/Cherokee County, Dekalb County Board of Health, Positive Health Impact Centers, Inc., Houston County Board of Health, Cobb County Board of Health, Georgia Dept. of Health-Floyd County, South Health District/Lowndes County, Waikiki Health Center, Heartland Health Outreach, Inc., Lawndale Christian Health Center, Near North Health Service Corporation, Crusaders Central Clinic Association, Matthew 25 AIDS Services, University of Kentucky, Capitol City Family Health Center, Greater Ouachita Coalition Providing AIDS Resources & Education, Inc., Administrators of the Tulane Educational Fund, Maine General, Regional Medical Center at Lubec, Johns Hopkins University, MedStar Research Institute,+ Boston Healthcare for the Homeless, Brockton Neighborhood Center, Cape Cod Hospital, Lynn Community Health, Inc., University of Massachusetts, G.A. Carmichael Family Health Center, Greenwood LeFlore/GLH Magnolia, Southeast Mississippi Rural Health Initiative, University Mississippi Medical Center, Northwest Health Services, Inc.,+ Chadron Community Hospital and Health Services, University Medical Center Southern Nevada, Trustees of Dartmouth College, Visiting Nurse Association of Central Jersey Community Health Center, Cooper Health System, University of New Mexico, Puerto Rican Organization to Motivate Enlighten and Serve Addicts (PROMESA), New York City Health and Hospitals Corporation-Elmhurst, APICHA Community Health Center, New York Health and Hospital Center, William Ryan Community Health Center, Hudson Headwaters Health Network, St John's Riverside Hospital, University of North Carolina at Chapel Hill, Catawba Valley Medical Center, Tri-County Community Health Council, Robeson Health Care Corporation, Wake Forest University, Ursuline Center, Inc., Cincinnati Health Network, University of Hospitals of Cleveland, University of Toledo, Community Health Net,+ Hamilton Health Center, Inc.,+ LeHigh Valley Hospital, Inc., St. Luke's Hospital, Clarion University of Pennsylvania, Lancaster General Hospital, Kensington Hospital, Philadelphia Fight, Allegheny-Singer Research Institute, Reading Hospital, The Wright Center Medical Group, P.C., Ryder Memorial Hospital, Thundermist Health Center, Hope Health, Inc., CareSouth Carolina, Inc.,+ Sandhills Medical Foundation, Affinity Health Care, Spartanburg Regional Health Services District, City of Sioux Falls, Chattanooga CARES, Meharry Medical College, AIDS Arms, Special Health Resources for TX, Inc., Rector and Visitors of the University of Virginia, CAMC Health Ed & Research, West Virginia University Research Corporation, 16th Street Community Center, and Wyoming Department of Health.

+ Recipient was approved for a one-year extension with funds in FY 2016.

Period of Supplemental Funding: May 1, 2017-April 30, 2018

Intended Recipients of the Award (140): University of Alabama, Mobile County Health Department, Anchorage Neighborhood Health Center, Inc., Jefferson Comprehensive Care System, Inc., El Proyecto Del Barrio, Inc., Clinica Sierra Vista, Regents of University of California, Bartz-Altadonna Community Health Center, Dignity Health DBA Saint Mary Medical Center, AIDS Healthcare Foundation, Charles Drew University Of Medicine And Science, JWCH Institute, Inc., T.H.E. Clinic, Inc.+, Contra Costa County Health Services Dept., Shashta Community Health Center, City & County Of San Francisco, Centro De Salud de La Comunidad San Ysidro, Santa Barbara County Health Department, Santa Rosa Community Health Centers, Venice Family Clinic, Optimus Health Care, Inc., South-West Community Health Center, Inc., Community Health Services, Inc., Fair Haven Community Health Clinic, Inc., Christiana Care Health Services, Inc., Family and Medical Counseling Service, Providence Health Foundation, Charlotte and DeSoto County Health Department, North Broward Hospital District, The McGregor Clinic, Inc., University of Florida, Collier Health Services, Inc., Unconditional Love, Inc., Jessie Trice Community Health Center, Inc., St. Johns County Health Department, Neighborhood Medical Center, Inc., Albany Area Primary Health Care, Inc., AID Atlanta, Columbus Department of Public Health, County of Laurens, County of Hall, County of Clayton, Family Medicine Residency Of Idaho, Idaho State University, Access Community Health Network, Christian Community Health Center, Erie Family Health Center, University of Illinois at Chicago, Open Door of Greater Elgin, Southern Illinois Healthcare Foundation, Siouxland Community Health Center, Genesis Health System, The University of Iowa, Primary Health Care, Inc., University of Louisville Research Foundation, Heartland Cares, Inc., Our Lady of the Lake Hospital, Inc., Southwest Louisiana AIDS Council, NO/AIDS Task Force, University Medical Center Management Corporation, Louisiana State University HSC, Total Health Care, Inc., Greater Baden Medical Services, Cambridge Health Alliance, Harbor Health Services+, Greater Lawrence Family Health Center, Inc., Jordan Hospital, Inc., Family Health Center of Worcestor, Inc. +, East Boston Neighborhood Health Center Corporation, Greater New Bedford Community Health Center, Inc., Outer Cape Health Services, Inc., Detroit Community Health Connection+, Minneapolis Medical Research Foundation, Aaron E. Henry Community Health Services Center, Inc.+, Delta Regional, Yellowstone City-County Health Department, Missoula County/City, Zufall Health Center, Inc., CarePoint Health Foundation Inc.+, Rutgers, The State University Of New Jersey, Neighborhood Health Services Corporation, Southwest C.A.R.E. Center, Whitney M. Young, Jr., Health Center, Inc., Bronx Community Health Network, HELP/PSI Services Corp., Morris Heights Health Center, Brooklyn Plaza Medical Center, Inc., Community Health Project, Inc., Mt. Sinai Hospital+, The Institute for Family Health, Hudson River Healthcare, Inc., Joseph P. Addabbo Family Health Center, Project Renewal, Inc., St. Luke's-Roosevelt Hospital Center, Quality Home Care Services, Lincoln Community Health Center, Incorporated, East Carolina University, Warren-Vance Community Health Center, Inc., Wake County Department of Health, New Hanover Regional Medical Center, Carolina Family Health Centers, Inc., Care Alliance, AIDS Resource Center Ohio, Inc., Research Institute At Nationwide Children's Hospital, Keystone Rural Health Center, AIDS Care Group, Pinnacle Health Medical Services, The Pennsylvania State University, Greater Philadelphia Health Action, Incorporated, Albert Einstein Medical Center, Drexel University College of Medicine, UPMC Presbyterian Shadyside+, Family First Health Corporation, Gurabo Community Health Center Inc/NeoMed, Centro De Salud De Lares, Inc., Concilio de Salud Integral De Loiza, Inc., Migrant Health Center, Western Region, Inc., Centro Ararat, Inc., Roper St. Francis Foundation, Eau Claire Cooperative Health Center, Low Country Health Care System, Inc., New Horizon Family Health Services, Inc., Little River Medical Center, Inc., Beaufort-Jasper-Hampton Comprehensive Health Services, Inc., Vanderbilt University Medical Center+, El Centro Del Barrio, Houston Regional HIV/AIDS Resource Group, Inc., Fletcher Allen Health Care, Inc., Eastern Virginia Medical School, Mary Washington Hosp./Medicorp Health System, Centra Health, Inc.+, Virginia Commonwealth University, Carilion Medical Center, INOVA Health Care Services, Country Doctor Community Clinic, Community Health Care, Yakima Valley Farmworkers Clinic, University Of Wisconsin-Madison, AIDS Resource Center of Wisconsin, and Milwaukee Health Services, Inc.

Aggregate amount of Non-Competitive Awards: $186,586,879.

CFDA Number: 93.918

Authority: Sections 2651-2667 of the Public Health Service Act (42 U.S.C. 300ff-51 through 67) and section 2693 of the Public Health Service Act, as amended by the Ryan White HIV/AIDS Treatment Extension Act of 2009 (Pub. 111-87)

Justification: One-year extensions with funds for all 346 Part C EISEGA recipients will enable HAB's Division of Community HIV/AIDS Programs to finalize the evaluation and methodology development and engage recipients and relevant stakeholders. The new data-driven methodology is aimed at ensuring that Part C EISEGA awards are based on a consistent approach to promote a rational and sustainable allocation of resources without disrupting the provision of critical HIV primary medical care services to the current RWHAP clients served by these recipients.

Dated: May 17, 2016.
James Macrae,
Acting Administrator.

[FR Doc. 2016-12304 Filed 5-24-16; 8:45 am]

BILLING CODE 4165-15-P